DEPARTMENT OF HOUSING AND URBAN DEVELOPMENT

[Docket No. FR-5200-FA-16]

Announcement of Funding Awards for Fiscal Year 2008; Tribal Colleges and Universities Program

AGENCY: Office of the Assistant Secretary for Policy Development and Research, HUD.

ACTION: Announcement of funding awards.

SUMMARY: In accordance with section 102(a)(4)(C) of the Department of Housing and Urban Development Reform Act of 1989, this document notifies the public of funding awards for Fiscal Year (FY) 2008 Tribal Colleges and Universities Program (TCUP). The purpose of this document is to announce the names and addresses of the award winners and the amount of the awards which are to be used to enable Tribal Colleges and Universities (TCU) to build, expand, renovate, and equip their own facilities, and expand the role of the TCUs into the community through the provision of needed services such as health programs, job training, and economic development activities.

FOR FURTHER INFORMATION CONTACT: Susan Brunson, Office of University Partnerships, Department of Housing and Urban Development, Room 8106, 451 Seventh Street, SW., Washington, DC 20410, telephone (202) 402-3852. To provide service for persons who are hearing-or-speech-impaired, this number may be reached via TTY by Dialing the Federal Information Relay Service on 800-877-8339 or 202-708-1455 (Telephone number, other than “800” TTY numbers are not toll free).

SUPPLEMENTARY INFORMATION: The Tribal Colleges and Universities Program was approved by Congress under the Consolidated Appropriations Act, 2008 (Pub. L. 110-161) and is administered by the Office of University Partnerships under the Assistant Secretary for Policy Development and Research. In addition to this program, the Office of University Partnerships administers HUD's ongoing grant programs to institutions of higher education as well as creates initiatives through which colleges and universities can bring their traditional missions of teaching, research, service, and outreach to bear on the pressing local problems in their communities.

The Tribal Colleges and Universities Program assist tribal colleges and universities to build, expand, renovate, and equip their own facilities, and expand the role of the TCUs into the community through the provision of needed services such as health programs, job training, and economic development activities.

The Catalog of Federal Domestic Assistance number for this program is 14.519.

On May 12, 2008 (FR Vol. 73, No. 92) HUD published a Notice of Funding Availability (NOFA) announcing the availability of $5 million in Fiscal Year (FY) 2008 for funding the Tribal Colleges and Universities Program. The Department reviewed, evaluated and scored the applications received based on the criteria in the NOFA. As a result, HUD funded seven applications.

The Department reviewed, evaluated, and scored the applications received based on the criteria in the NOFA. As a result, HUD has funded the applications below, in accordance with section 102(a)(4)(C) of the Department of Housing and Urban Development Reform Act of 1989 (103 Stat. 1987, 42 U.S.C. 3545). More information about the winners can be found at http://www.oup.org, the Department is publishing the names, addresses, and amounts of those awards as shown in Appendix A.

Dated: October 14, 2008.
Darlene F. Williams,
Assistant Secretary for Policy Development and Research.

Appendix A—Fiscal Year 2008 Funding Awards for Tribal Colleges and Universities Grant Program
Recipient | City/State/Zip Code | Award
Tohono O'odham Community College, Ms. Olivia Vanegas-Funcheon, Mile Post 115.5 North HWY 86, P.O. Box 3129 | Sells, AZ 85634-3129 | $750,000
Bay Mills Community College, Michael Parish, 12214 W. Lakeshore Drive | Brimley, MI 49774 | 504,800
Salish Kootenai College, Dr. Joseph McDonald, 58138 U.S. Highway 93 | Pablo, MT 59855 | 750,000
United Tribes Technical College, Mr. Russell Swagger, 3315 University Drive | Bismarck, ND 58504 | 745,200
Institute of American Indians Art, Laurie Logan Brayshaw, 83 Avan Nu Po Road | Santa Fe, NM 87508 | 750,000
Northwest Indian College, Mr. Dave Oreiro, 2522 Kwina Road | Bellingham WA 98226 | 750,000
College of Menominee Nation, Ms. Jill Martin, P.O. Box 1179 | Keshena, WI 54135 | 750,000

[FR Doc. E8-25064 Filed 10-21-08; 8:45 am]

BILLING CODE 4210-67-P